DEPARTMENT OF THE TREASURY

Internal Revenue Service

[FI-255-82]

Proposed Collection; Comment Request for Regulation Project; Correction

AGENCY: Internal Revenue Service (IRS), Treasury

ACTION: Correction to notice and request for comments.

SUMMARY: This document contains a correction to a notice and request for comments which was published in the Federal Register on June 23, 2000 (65 FR 39228), relating to an invitation to comment on a proposed information collection.

FOR FURTHER INFORMATION CONTACT: Larnice Mack at (202) 622-3179.

SUPPLEMENTARY INFORMATION:

Need for Correction

As published, this notice and request for comments contains an error that is misleading and needs clarification.

Correction of Publication

Accordingly, the publication of the notice and request for comments (FI-255-82), which is the subject of FR. Doc 00-15869 is corrected as follows:

On page 39228, column 1, under the caption “SUMMARY”, last line in the paragraph, the language “(§ 1.149-1(c)(4)).” is corrected to read “(§ 5f.103-1(c)).”.

Cynthia Grigsby,
Chief, Regulations Unit, Office of Special Counsel, (Modernization and Strategic Planning).

[FR Doc. 00-18140 Filed 7-18-00; 8:45 am]

BILLING CODE 4850-01-P